DEPARTMENT OF TRANSPORTATION

Federal Aviation Administration

14 CFR Part 39

[Docket No. 2003-NM-128-AD; Amendment 39-13589; AD 2004-08-19]

RIN 2120-AA64

Airworthiness Directives; Airbus Model A330-200 Series Airplanes

AGENCY: Federal Aviation Administration, DOT.

ACTION: Final rule; request for comments.

SUMMARY: This amendment adopts a new airworthiness directive (AD), applicable to certain Airbus Model A330-200 series airplanes. This action requires certain modifications of the rudder servo controls. This action is necessary to prevent failure of the driving finger of the rudder servo control and consequent loss of the rudder servo control function in driving the rudder to its commanded position, which, if combined with an engine failure during takeoff or go around, could result in loss of control of the airplane. This action is intended to address the identified unsafe condition.

DATES: Effective May 11, 2004.

The incorporation by reference of certain publications listed in the regulations is approved by the Director of the Federal Register as of May 11, 2004.

Comments for inclusion in the Rules Docket must be received on or before May 26, 2004.

ADDRESSES: Submit comments in triplicate to the Federal Aviation Administration (FAA), Transport Airplane Directorate, ANM-114, Attention: Rules Docket No. 2003-NM-128-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2003-NM-128-AD” in the subject line and need not be submitted in triplicate. Comments sent via the Internet as attached electronic files must be formatted in Microsoft Word 97 or 2000 or ASCII text.

The service information referenced in this AD may be obtained from Airbus, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Tim Backman, Aerospace Engineer, ANM-116, International Branch, FAA, Transport Airplane Directorate, 1601 Lind Avenue, SW., Renton, Washington 98055-4056; telephone (425) 227-2797; fax (425) 227-1149.

SUPPLEMENTARY INFORMATION: The Direction Générale de l'Aviation Civile (DGAC), which is the airworthiness authority for France, notified the FAA that an unsafe condition may exist on certain Model A330-200 series airplanes. The DGAC advises that, during a pre-flight check, an Electronic Aircraft Centralized Monitoring (ECAM) warning message for rudder servo control jamming was displayed, “F/CTL RUD Y SERVO JAM.” Following this incident, two similar incidents occurred on other airplanes. In each case, investigation revealed that the driving finger of the affected rudder servo control was found broken due to fatigue failure. Such fatigue failure was caused by additional loads resulting from jamming of a hard particle between the servo control valve spool and the sleeve. In addition, a sealing defect of the jamming detection switches of the rudder servo control was found on other airplanes on which the message was displayed. Such conditions, if not corrected, could result in inability of the rudder servo control to drive the rudder to its commanded position, which, if combined with an engine failure during takeoff or go around, could result in loss of control of the airplane.

Explanation of Relevant Service Information

Airbus has issued Service Bulletins A330-27-3101, Revision 01, dated March 13, 2003; and Revision 02, dated February 4, 2004, which describe procedures for modification of the rudder servo controls. The modification includes replacing the existing driving finger and control valve assembly of the rudder servo controls with new, improved parts, and re-identifying the rudder servo controls. The service bulletins cite Goodrich Actuation Systems Retrofit Information Letter, 31110-27-05, dated October 30, 2002, as an additional source of service information for accomplishment of the modification.

Service Bulletins A330-27-3101, Revision 01 and Revision 02, recommend prior or concurrent accomplishment of Airbus Service Bulletin A330-27-3078, dated May 18, 2000. This service bulletin describes procedures for modification of the jamming detection switches of the rudder servo controls. The modification includes adding packing, replacing filling product in the switches, and re-identifying the rudder servo controls. Service Bulletin A330-27-3078 cites Lucas Aerospace Service Bulletin No. 31110-27-02, dated April 20, 2000, as an additional source of service information for accomplishment of the modification.

Accomplishment of the actions specified in the Airbus service information is intended to adequately address the identified unsafe condition. The DGAC classified this service information as mandatory and issued French airworthiness directive 2003-102(B), dated March 5, 2003, to ensure the continued airworthiness of these airplanes in France.

FAA's Conclusions

This airplane model is manufactured in France and is type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of the Rule

Since an unsafe condition has been identified that is likely to exist or develop on other airplanes of the same type design that may be registered in the United States at some time in the future, this AD is being issued to prevent failure of the driving finger of the rudder servo control and consequent loss of the rudder servo control function in driving the rudder to its commanded position, which could result in loss of control of the airplane, if combined with an engine failure during takeoff or go around. This AD requires certain modifications of the rudder servo control. The actions are required to be accomplished in accordance with the Airbus service information described previously, except as discussed below.

Difference Between Proposed AD and Service Bulletin

The applicability of French airworthiness directive 2003-102(B) excludes airplanes that accomplished Airbus Service Bulletins A330-27-3101, Revision 01, dated March 13, 2003; and Revision 02, dated February 4, 2004, in service. However, we have not excluded those airplanes in the applicability of this proposed AD; rather, this proposed AD includes a requirement to accomplish the actions specified in those service bulletins. Such a requirement would ensure that the actions specified in those service bulletins and required by this proposed AD are accomplished on all affected airplanes. Operators must continue to operate the airplane in the configuration required by this proposed AD unless an alternative method of compliance is approved.

Cost Impact

None of the airplanes affected by this action are on the U.S. Register. All airplanes included in the applicability of this rule currently are operated by non-U.S. operators under foreign registry; therefore, they are not directly affected by this AD action. However, we consider that this rule is necessary to ensure that the unsafe condition is addressed in the event that any of these subject airplanes are imported and placed on the U.S. Register in the future.

Should an affected airplane be imported and placed on the U.S. Register in the future:

For Service Bulletin A330-27-3101, Revision 01 or Revision 02: It would require about 12 work hours to do the modification of the rudder servo controls, at an average labor rate of $65 per work hour. Parts cost would be negligible. Based on these figures, the cost impact of this modification would be $780 per airplane.

For Service Bulletin A330-27-3078: Modification of the jamming detection switches, if required, would take about 12 work hours to do, at an average labor rate of $65 per work hour. Parts cost would be negligible. Based on these figures, the cost impact of this modification would be $780 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2003-NM-128-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-08-19 Airbus: Amendment 39-13589. Docket 2003-NM-128-AD.

Applicability: Model A330-200 series airplanes; certificated in any category; on which Airbus Modifications 48510 and 47628 have not been done during production.

Compliance: Required as indicated, unless accomplished previously.

To prevent failure of the driving finger of the rudder servo control and consequent loss of the rudder servo control function in driving the rudder to its commanded position, which, if combined with an engine failure during takeoff or go around, could result in loss of control of the airplane, accomplish the following:

Modification

(a) Within 24 months after the effective date of this AD: Modify the rudder servo controls by doing all the actions per the Accomplishment Instructions of Airbus Service Bulletin A330-27-3101, Revision 01, dated March 13, 2003; or Revision 02, dated February 4, 2004.

Note 1: Goodrich Actuation Systems Retrofit Information Letter, 31110-27-05, dated October 30, 2002, is cited in Airbus Service Bulletins A330-27-3101, Revision 01, dated March 13, 2003; and Revision 02, dated February 4, 2004; as an additional source of service information for accomplishment of the modification.

Credit for Previous Issue of Service Bulletin

(b) Accomplishment of the modification of the rudder servo controls before the effective date of this AD per Airbus Service Bulletin A330-27-3101, dated October 24, 2002, is considered acceptable for compliance with the modification specified in paragraph (a) of this AD.

Prior or Concurrent Requirements

(c) Prior to or concurrent with accomplishment of paragraph (a) of this AD: Modify the jamming detection switches of the rudder servo controls by doing all the actions per the Accomplishment Instructions of Airbus Service Bulletin A330-27-3078, dated May 18, 2000.

Note 2: Lucas Aerospace Service Bulletin No. 31110-27-02, dated April 20, 2000, is cited in Airbus Service Bulletin A330-27-3078, dated May 18, 2000, as an additional source of service information for accomplishment of the modification of the jamming detection switches.

Alternative Methods of Compliance

(d) In accordance with 14 CFR 39.19, the Manager, International Branch, ANM-116, FAA, Transport Airplane Directorate, is authorized to approve alternative methods of compliance for this AD.

Incorporation by Reference

(e) Unless otherwise specified in this AD, the actions shall be done in accordance with Airbus Service Bulletin A330-27-3101, Revision 01, dated March 13, 2003; Airbus Service Bulletin A330-27-3101, Revision 02, dated February 4, 2004; and Airbus Service Bulletin A330-27-3078, dated May 18, 2000; as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2003-102(B), dated March 5, 2003.

Effective Date

(f) This amendment becomes effective on May 11, 2004.

Issued in Renton, Washington, on April 15, 2004.
Michael J. Kaszycki,
Acting Manager, Transport Airplane Directorate, Aircraft Certification Service.

[FR Doc. 04-9109 Filed 4-23-04; 8:45 am]

BILLING CODE 4910-13-P